DEPARTMENT OF ENERGY

Federal Energy Regulatory Commission

[ Project No. 13636-000, Project No. 13637-000, Project No. 13650-000]

Mississippi L&D 21, LLC, Mississippi River No. 21 Hydropower Company Lock + ™ Hydro Friends Fund XXXII, LLC; Notice of Preliminary Permit Applications Accepted for Filing and Soliciting Comments, Motions To Intervene, and Competing Applications

January 22, 2010.

On December 1, 2009, Mississippi L&D 21, LLC (Mississippi LLC) filed an application for a preliminary permit for the proposed Mississippi River Lock and Dam No. 21 Hydroelectric Project No. 13636. On December 2, 2009, Mississippi River No. 21 Hydropower Company (Hydropower Company) filed an application for a preliminary permit for the proposed Mississippi River No. 21 Hydropower Project No. 13637. On January 8, 2010, Lock + ™ Hydro Friends Fund XXXII, LLC (Lock + Hydro) filed an application for a preliminary permit for the proposed Hulk Project No. 13650. The permit applications were filed pursuant to section 4(f) of the Federal Power Act (FPA), proposing to study the feasibility of the projects, to be located on the Mississippi River, in Adams County, Illinois, and Marion County, Missouri. The projects would be located at the existing Mississippi River Lock and Dam No. 21 owned and operated by the U.S. Corps of Engineers that includes a reservoir, a lock and dam equipped with roller and tainter gates, and an earth dike.

Mississippi LLC's proposed project would consist of: (1) A new 75-foot-wide by 150-foot-long powerhouse located adjacent to the earth dike containing four 13-megawatt (MW) turbine generating units with a total capacity of 52 MW; (2) a new 6.8-mile-long, 136-kilovolt (kV) transmission line; and (3) appurtenant facilities. The project would produce an estimated average annual generation of 199,600 megawatt-hours.

Mississippi LLC Contact: Mr. Brent Smith, CCO, Symbiotics, LLC, P.O. Box 535, Rigby, Idaho 83442, (208) 745-0834.

Hydropower Company's proposed project would consist of: (1) A new 66-foot-wide by 800-foot-long powerhouse located adjacent to the earth dike containing thirty 500-kilowatt turbine generating units with a total capacity of 15 MW; (2) either a new 1.57-mile-long, 69-kV transmission line located in Missouri, a new 0.5-mile-long, 34.5-kV transmission line, or a new 1.5-mile-long, 34.5-kV transmission line located in Illinois; and (3) appurtenant facilities. The project would produce an estimated average annual generation of 71,400 megawatt-hours.

Hydropower Company Contact: Mr. John Spring, President, Mississippi River No. 21 Hydropower Company, 730 Maine Street, Quincy, Illinois 62301, (217) 228-4515.

Lock + Hydro's proposed project would consist of: (1) Two new underwater frame modules located adjacent to the earth dike each containing nine turbine generating units with a total capacity of about 9.45 megawatts; (2) a new 220-foot, 450-foot-long intake conduit; (3) a new 220-foot-wide, 50-foot-long tailrace; and (4) a new 3-mile-long, 69 kilovolt transmission line. The project would produce an estimated average annual generation of about 61,129 megawatt-hours.

Lock + Hydro Contact: Wayne F. Krouse, Chairman and CEO, Hydro Green Energy, LLC, 5090 Richmond Avenue, Suite 290, Houston, TX 77056, (877) 556-6566.

FERC Contact: Tom Dean, (202) 502-6041.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13636, 13637, or 13650) in the docket number field to access the document. For assistance, call toll-free 1-866-208-3372.

Kimberly D. Bose,
Secretary.

[FR Doc. 2010-1982 Filed 1-29-10; 8:45 am]

BILLING CODE 6717-01-P